ENVIRONMENTAL PROTECTION AGENCY

[EPA-HQ-OPP-2014-0614; FRL-9918-80]

FIFRA SAP; Notice of Supplemental Information for Previously Announced Public Meeting

AGENCY: Environmental Protection Agency (EPA).

ACTION: Notice.

SUMMARY: EPA is supplementing the public meeting notice provided in the Federal Register on September 16, 2014, which announced a 4-day meeting of the Federal Insecticide, Fungicide, and Rodenticide Act Scientific Advisory Panel (FIFRA SAP) scheduled for December 2-5, 2014, to consider and review scientific uncertainties associated with Integrated Endocrine Activity and Exposure-based Prioritization and Screening. Specifically, EPA is announcing the change of the assigned Designated Federal Official (DFO) for this meeting from Alva Daniels to Fred Jenkins, and that the meeting materials that have been provided to the FIFRA SAP members and are now available in the docket for this meeting.

DATES: The meeting will be held on December 2-5, 2014, from approximately 9 a.m. to 5 p.m.

Comments. As indicated previously, the Agency encourages that written comments be submitted by November 18, 2014, and requests for oral comments be submitted by November 25, 2014. However, written comments and requests to make oral comments may be submitted until the date of the meeting, but anyone submitting written comments after November 18, 2014, should contact the DFO listed under FOR FURTHER INFORMATION CONTACT. For additional instructions, see Unit I.C. of the SUPPLEMENTARY INFORMATION in the public meeting notice that published in the Federal Register of September 16, 2014.

Special accommodations. For information on access or services for individuals with disabilities, and to request accommodation of a disability, please contact the DFO listed under FOR FURTHER INFORMATION CONTACT at least 10 days prior to the meeting to give EPA as much time as possible to process your request.

ADDRESSES: The meeting will be held at the Environmental Protection Agency, Conference Center, Lobby Level, One Potomac Yard (South Bldg.), 2777 S. Crystal Dr., Arlington, VA 22202.

FOR FURTHER INFORMATION CONTACT: Fred Jenkins, DFO, Office of Science Coordination and Policy (7201M), Environmental Protection Agency, 1200 Pennsylvania Ave. NW., Washington, DC 20460-0001; telephone number: (202) 564-3327; email address: jenkins.fred@epa.gov.

SUPPLEMENTARY INFORMATION: The detailed information about this meeting and instructions for commenting are provided in the original public meeting notice that published in the Federal Register of September 16, 2014 (79 FR 55475) (FRL 9915-55). As indicated in the original public meeting announcement of September 16, 2014, you may access available meeting materials for this FIFRA SAP meeting at http://www.regulations.gov and the FIFRA SAP Web site at http://www.epa.gov/scipoly/sap.

Any requests to present oral comments, requests for special accommodations, or inquiries about this meeting should now be directed to Fred Jenkins, the DFO listed under FOR FURTHER INFORMATION CONTACT in this document.

Authority: 7 U.S.C. 136 et seq.; 21 U.S.C. 301 et seq.

Dated: October 29, 2014.
David Dix,
Director, Office of Science Coordination and Policy.

[FR Doc. 2014-26224 Filed 11-4-14; 8:45 am]

BILLING CODE 6560-50-P